DEPARTMENT OF TRANSPORTATION

Federal Aviation Administration

Aviation Rulemaking Advisory Committee—New Task

AGENCY: Federal Aviation Administration (FAA), DOT.

ACTION: Notice of a continuation of task assignment for the Aviation Rulemaking Advisory Committee (ARAC).

SUMMARY: The FAA assigned the Aviation Rulemaking Advisory Committee (ARAC) a continuation of task to a previously established working group. This continuation of task requests the working group to provide cost and benefit data for the proposed implementation of the ARAC recommendations submitted in 2012 regarding the FAA's approach to update, reorganize and improve the level of safety requirements for the flammability of materials for transport category airplanes. This notice informs the public of a continuation to a previous ARAC activity, reinstates the Materials Flammability Working Group, and does not solicit membership.

FOR FURTHER INFORMATION CONTACT: Jeff Gardlin, Airframe/Cabin Safety Branch, ANM-115, Transport Airplane Directorate, Federal Aviation Administration, 1601 Lind Avenue SW., Renton, Washington 98057, telephone (425) 227-2136, facsimile (425) 227-1149; email jeff.gardlin@faa.gov.

SUPPLEMENTARY INFORMATION:

ARAC Acceptance of Task

As a result of the December 18, 2014, ARAC meeting, the FAA assigned and ARAC accepted and designated this task to the Transport Airplane and Engine (TAE) Subcommittee, reinstating the Materials Flammability Working Group. The Materials Flammability Working Group will serve as staff to the ARAC, through the TAE Subcommittee, and will provide advice and recommendations on the assigned task. The TAE Subcommittee will review and approve the recommendation report and will send the approved recommendation report to the ARAC for acceptance. After ARAC accepts the recommendation report, it will submit the recommendation report to the FAA.

Background

The FAA established the ARAC to provide information, advice, and recommendations on aviation related issues that could result in rulemaking to the FAA Administrator, through the Associate Administrator of Aviation Safety.

On August 27, 2010 [75 FR 52807], the FAA tasked ARAC to consider the merits and make recommendations for improvement of an approach drafted by the FAA that would simplify compliance demonstrations, and upgrade the level of safety for flammability throughout the airplane. The objective of the proposed approach was to completely revisit the flammability requirements and take advantage of the wealth of data available from FAA research and advances in material fire safety to provide a simpler regulation that provides a higher level of safety for transport category airplanes.

The flammability requirements for interior materials on transport category airplanes have evolved significantly over the years to become more threat-based. By “threat-based,” the FAA means the flammability requirements use a more realistic test method based on the type of fire hazard most critical for the components in question. Historically, these requirements have been based on an analysis of the type of threat, the usage of the potentially flammable material (e.g., sidewall), and the material type (e.g., elastomeric materials). This approach has led to problems, including multiple requirements applying to the same component; conflicting requirements for the same component depending on what material it is made from; and ambiguous requirements for components not explicitly listed in § 25.853 or Appendix F part I of part 25. These ambiguous requirements for components not explicitly listed have resulted in the requirements of § 25.853 or Appendix F, part I of part 25 becoming obsolete whenever materials change, or incomplete when components have been developed after the regulation and Appendix F of part 25 were issued.

The Materials Flammability Working Group completed the task, and the ARAC submitted the recommendations to the FAA in August 2012. The Materials Flammability Working Group believed the proposed threat-based organization for the flammability regulations was logical, practical and a more effective framework for regulation going forward than the current published regulations. The Materials Flammability Working Group believed the resulting regulation draft, along with appropriate advisory material, would ultimately be simpler and more easily understood and enforced. In order to proceed with rulemaking to implement the recommendations, the FAA is tasking the ARAC to provide cost and benefit data associated with implementation.

The Task

The Materials Flammability Working Group will provide advice and recommendations to the ARAC, through the TAE Subcommittee, on the costs and benefits of implementing the recommendations previously submitted by the Materials Flammability Working Group in August 2012. The recommendation report can be found at: http://www.faa.gov/regulations_policies/rulemaking/committees/arac/.

The Materials Flammability Working Group is tasked to:

1. Review the Materials Flammability Working Group Recommendation Report dated July 9, 2012 and submitted in August 2012, along with subsequent research results to be provided to the Materials Flammability Working Group by the FAA.

2. Provide quantitative cost data for each recommendation, if applicable, along with assumptions and rationale for the cost data. The FAA will provide key assumptions to assist with cost estimation.

3. Provide quantitative economic benefit data for each recommendation, if applicable.

4. Provide service data regarding incidents (precursors) or accidents related to materials flammability that would be mitigated in the future by implementation of each recommendation.

5. Develop a report containing recommendations on the findings and results of the tasks explain above.

a. The recommendation report should document both majority and dissenting positions on the findings and the rationale for each position.

b. Any disagreements should be documented, including the rationale for position and the reasons for the disagreements.

6. The Materials Flammability Working Group may be reinstated to assist the ARAC, through the TAE Subcommittee, by responding to the FAA's questions or concerns after the recommendation report has been submitted.

Schedule

The recommendation report should be submitted to the FAA for review and acceptance no later than 8 months from publication of the tasking statement in the Federal Register.

Working Group Activity

The Materials Flammability Working Group must comply with the procedures adopted by the ARAC and are as follows:

1. Conduct a review and analysis of the assigned tasks and any other related materials or documents.

2. Draft and submit the recommendation report based on the review and analysis of the assigned tasks.

3. Present the recommendation report at the TAE Subcommittee meeting.

Participation in the Working Group

The reinstated Materials Flammability Working Group is comprised of technical experts having an interest in the assigned task. A working group member need not be a member representative of the ARAC or the TAE Subcommittee. The FAA is not soliciting membership for the reinstated Materials Flammability Working Group. The provisions of the August 13, 2014, Office of Management and Budget guidance, “Revised Guidance on Appointment of Lobbyists to Federal Advisory Committees, Boards, and Commissions” (79 FR 47482), continues the ban on registered lobbyists participating on Agency Boards and Commissions if participating in their “individual capacity.” The revised guidance now allows registered lobbyists to participate on Agency Boards and Commissions in a “representative capacity” for the “express purpose of providing a committee with the views of a nongovernmental entity, a recognizable group of persons or nongovernmental entities (an industry, sector, labor unions, or environmental groups, etc.) or state or local government.” (For further information see Lobbying Disclosure Act of 1995 (LDA) as amended, 2 U.S.C 1603, 1604, and 1605.)

The members of the Materials Flammability Working Group must actively participate by attending all meetings, and providing written comments when requested. The members must devote the resources necessary to support the Materials Flammability Working Group in meeting any assigned deadlines. The members must keep management and those represented advised of the Materials Flammability Working Group activities and decisions to ensure the proposed technical solutions does not conflict with the position of the member's represent.

The Secretary of Transportation determined the formation and use of the ARAC is necessary and in the public interest in connection with the performance of duties imposed on the FAA by law.

ARAC meetings are open to the public. However, meetings of the Materials Flammability Working Group are not open to the public. The FAA will make no public announcement of working group meetings.

Issued in Washington, DC, on January 14, 2015.
Lirio Liu,
Designated Federal Officer, Aviation Rulemaking Advisory Committee.

[FR Doc. 2015-00749 Filed 1-16-15; 8:45 am]

BILLING CODE 4910-13-P